DEPARTMENT OF STATE

[Public Notice 6250]

Certification Related to Guatemalan Armed Forces Under Section 672 of the Department of State, Foreign Operations and Related Programs Appropriations Act, 2008 (Div. J, Pub. L. 110-161)

Pursuant to the authority vested in me as Deputy Secretary of State, including under Section 672 of the Department of State, Foreign Operations, and Related Programs Appropriations Act, 2008 (Div. J, Pub. L. 110-161) (“the Act”) and Delegation of Authority No. 245, I hereby certify that:

(A) The Guatemalan Air Force, Navy and Army Corps of Engineers are respecting human rights;

(B) the Guatemalan Air Force, Navy, and Army Corps of Engineers are cooperating with civilian judicial investigations and prosecutions of current and retired military personnel who have been credibly alleged to have committed violations of human rights; and

(C) the Guatemalan Armed Forces are fully cooperating (including access for investigators, the provision of documents and other evidence, and testimony of witnesses) with the Commission Against Impunity in Guatemala.

This Certification shall be published in the Federal Register and copies shall be transmitted to the appropriate committees of Congress.

Dated: May 22, 2008.
John D. Negroponte,
Deputy Secretary of State, Department of State.

[FR Doc. E8-12722 Filed 6-5-08; 8:45 am]

BILLING CODE 4710-29-P